DEPARTMENT OF TRANSPORTATION

Federal Aviation Administration

14 CFR Part 39

[Docket No. FAA-2011-1161; Directorate Identifier 2011-CE-036-AD; Amendment 39-16850; AD 2011-21-51]

RIN 2120-AA64

Airworthiness Directives; Cessna Aircraft Company Airplanes

AGENCY: Federal Aviation Administration (FAA), DOT.

ACTION: Final rule; request for comments.

SUMMARY: We are adopting a new airworthiness directive (AD) for certain Cessna Aircraft Company (Cessna) Model 525C airplanes. This emergency AD was sent previously to all known U.S. owners and operators of these airplanes. This AD requires replacing certain lithium-ion batteries installed as the main aircraft battery with either a Ni-Cad or a lead acid battery. This AD was prompted by a report of a battery fire that resulted after an energized ground power unit was connected to one of the affected airplanes equipped with a lithium-ion battery as the main aircraft battery. We are issuing this AD to correct the unsafe condition on these products.

DATES: This AD is effective November 1, 2011 to all persons except those persons to whom it was made immediately effective by Emergency AD 2011-21-51, issued on October 6, 2011, which contained the requirements of this amendment.

The Director of the Federal Register approved the incorporation by reference of a certain publication identified in the AD as of November 1, 2011.

We must receive comments on this AD by December 16, 2011.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Cessna Aircraft Company, Product Support, P.O. Box 7706, Wichita, KS 67277; telephone: (316) 517-6000; fax: (316) 517-8500; email: Customercare@cessna.textron.com; Internet: http://www.cessna.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: (800) 647-5527) is in the ADDRESSES section. Comments will be available in the AD docket shortly after receipt.

FOR FURTHER INFORMATION CONTACT: Richard Rejniak, Aerospace Engineer, Wichita Aircraft Certification Office, 1801 Airport Road, Room 100, Wichita, Kansas 67209; phone: (316) 946-4128; fax: (316) 946-4107; email: richard.rejniak@faa.gov.

SUPPLEMENTARY INFORMATION:

Discussion

On October 6, 2011, we issued Emergency AD 2011-21-51, which requires replacing the lithium-ion main aircraft battery, Cessna part number (P/N) 9914788-1, with a Ni-Cad or a lead acid battery. This emergency AD was sent previously to all known U.S. owners and operators of these airplanes. This action was prompted by a report of a battery fire that resulted after an energized ground power unit was connected to a Cessna Model 525C airplane equipped with a lithium-ion battery, Cessna P/N 9914788-1, as the main aircraft battery. This condition, if not corrected, could result in an aircraft fire.

Relevant Service Information

We reviewed Cessna Citation Service Bulletin SB525C-24-05, dated September 29, 2011. The service information describes procedures for replacing lithium-ion main aircraft batteries, Cessna P/N 9914788-1, with Ni-Cad or lead acid batteries.

FAA's Determination

We are issuing this AD because we evaluated all the relevant information and determined the unsafe condition described previously is likely to exist or develop in other products of the same type design.

AD Requirements

This AD requires accomplishing the actions specified in the service information described previously.

FAA's Determination of the Effective Date

An unsafe condition exists that requires the immediate adoption of this AD. The FAA has found that the risk to the flying public justifies waiving notice and comment prior to adoption of this rule because of a battery fire that resulted after an energized ground power unit was connected to one of the affected airplanes equipped with a certain lithium-ion battery as the main aircraft battery. If not corrected, this condition could lead to an aircraft fire. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2011-1161 and Directorate Identifier 2011-CE-036-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 43 airplanes of U.S. registry.

We estimate the following costs to comply with this AD:

Estimated Costs
Action | Labor cost | Parts cost | Cost per product | Cost on U.S. operators
Replace the lithium-ion main aircraft battery with a Ni-Cad or a lead acid battery | 2.5 work-hours × $85 per hour = $212.50 | From $4,314 to $7,076 | From $4,526.50 to $7,288.50 | From $194,639.50 to $313,405.50.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-21-51 Cessna Aircraft Company: Amendment 39-16850; Docket No. FAA-2011-1161; Directorate Identifier 2011-CE-036-AD.

(a) Effective Date

This AD is effective November 1, 2011 to all persons except those persons to whom it was made immediately effective by Emergency AD 2011-21-51, issued on October 6, 2011, which contained the requirements of this amendment.

(b) Affected ADs

None.

(c) Applicability

This AD applies to Cessna Aircraft Company (Cessna) Model 525C airplanes, serial numbers 0001 through 0052, that:

(1) Have a lithium-ion battery, Cessna part number (P/N) 9914788-1, installed as the main aircraft battery; and

(2) are certificated in any category.

(d) Subject

Joint Aircraft System Component (JASC)/Air Transport Association (ATA) of America Code 2432; Battery/Charger.

(e) Unsafe Condition

This AD was prompted by a report of a battery fire that resulted after an energized ground power unit was connected to one of the affected airplanes equipped with a lithium-ion battery as the main aircraft battery. We are issuing this AD to prevent a potential battery fault that could lead to an aircraft fire.

(f) Compliance

Comply with this AD within the compliance times specified, unless already done.

(g) Replace the Lithium-Ion Main Aircraft Battery, Cessna P/N 9914788-1

(1) Within the next 10 hours time-in-service after November 1, 2011 (the effective date of this AD) or within the next 7 days after November 1, 2011 (the effective date of this AD), whichever occurs first, replace the lithium-ion main aircraft battery, Cessna P/N 9914788-1, following Cessna Citation Service Bulletin SB525C-24-05, dated September 29, 2011.

(2) As of November 1, 2011 (the effective date of this AD), do not install a lithium-ion battery, Cessna P/N 9914788-1, on any of the affected airplanes.

(h) Special Flight Permits

Special flight permits under 14 CFR 39.23 are allowed with the following limitation: “Single and non-revenue flights only.”

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

For further information about this AD, contact: Richard Rejniak, Aerospace Engineer, Wichita ACO, FAA, 1801 Airport Road, Room 100, Wichita, Kansas 67209; phone: (316) 946-4128; fax: (316) 946-4107; email: richard.rejniak@faa.gov.

(k) Material Incorporated by Reference

(1) You must use Cessna Citation Service Bulletin SB525C-24-05, dated September 29, 2011, to do the actions required by this AD, unless the AD specifies otherwise. The Director of the Federal Register approved the incorporation by reference (IBR) under 5 U.S.C. 552(a) and 1 CFR part 51 on November 1, 2011.

(2) For service information identified in this AD, contact Cessna Aircraft Company, Product Support, P.O. Box 7706, Wichita, KS 67277; telephone: (316) 517-6000; fax: (316) 517-8500; email: Customercare@cessna.textron.com; Internet: http://www.cessna.com.

(3) You may review copies of the service information at the FAA, FAA, Small Airplane Directorate, 901 Locust, Kansas City, Missouri 64106. For information on the availability of this material at the FAA, call (816) 329-4148.

(4) You may also review copies of the service information that is incorporated by reference at the National Archives and Records Administration (NARA). For information on the availability of this material at an NARA facility, call (202) 741-6030, or go to http://www.archives.gov/federal_register/code_of_federal_regulations/ibr_locations.html.

Issued in Kansas City, Missouri, on October 19, 2011.
James E. Jackson,
Acting Manager, Small Airplane Directorate, Aircraft Certification Service.

[FR Doc. 2011-27596 Filed 10-31-11; 8:45 am]

BILLING CODE 4910-13-P